DEPARTMENT OF DEFENSE

Defense Acquisition Regulations System

48 CFR Part 239

[DFARS Case 2003-D056]

Defense Federal Acquisition Regulation Supplement; Basic Agreements for Telecommunications Services

AGENCY: Defense Acquisition Regulations System, Department of Defense (DoD).

ACTION: Final rule.

SUMMARY: DoD has issued a final rule amending the Defense Federal Acquisition Regulation Supplement (DFARS) to update text pertaining to the use of basic agreements in the acquisition of telecommunications services. This rule is a result of a transformation initiative undertaken by DoD to dramatically change the purpose and content of the DFARS.

DATES: Effective Date: May 12, 2006.

FOR FURTHER INFORMATION CONTACT: Ms. Gabrielle Ward, Defense Acquisition Regulations System, OUSD(AT&L)DPAP(DARS), IMD 3C132, 3062 Defense Pentagon, Washington, DC 20301-3062. Telephone (703) 602-2022; facsimile (703) 602-0350. Please cite DFARS Case 2003-D056.

SUPPLEMENTARY INFORMATION:

A. Background

DFARS Transformation is a major DoD initiative to dramatically change the purpose and content of the DFARS. The objective is to improve the efficiency and effectiveness of the acquisition process, while allowing the acquisition workforce the flexibility to innovate. The transformed DFARS will contain only requirements of law, DoD-wide policies, delegations of FAR authorities, deviations from FAR requirements, and policies/procedures that have a significant effect beyond the internal operating procedures of DoD or a significant cost or administrative impact on contractors or offerors. Additional information on the DFARS Transformation initiative is available at http://www.acq.osd.mil/dpap/dars/dfars/transformation/index.htm.

This final rule is a result of the DFARS Transformation initiative. The rule deletes procedures at DFARS 239.7407-1 and 239.7407-2 regarding the use of basic agreements and communication service authorizations for the acquisition of telecommunications services. Text on this subject has been relocated to the new DFARS companion resource, Procedures, Guidance, and Information (PGI), available at http://www.acq.osd.mil/dpap/dars/pgi.

DoD published a proposed rule at 69 FR 67883 on November 22, 2004. One source submitted comments on the proposed rule. The respondent recommended retention of the DFARS text on communication service authorizations, as the respondent believed that relocation of this text to PGI would eliminate DoD's regulatory authority to issue communication service authorizations. DoD disagrees with the respondent's position. Consistent with the definition of PGI at DFARS 202.101, the rule relocates internal DoD procedures regarding the use of communication service authorizations to PGI. However, the rule retains a policy statement in DFARS 239.7407 that provides the regulatory authority for issuance of communication service authorizations. Therefore, DoD has adopted the proposed rule as a final rule without change.

This rule was not subject to Office of Management and Budget review under Executive Order 12866, dated September 30, 1993.

B. Regulatory Flexibility Act

DoD certifies that this final rule will not have a significant economic impact on a substantial number of small entities within the meaning of the Regulatory Flexibility Act, 5 U.S.C. 601, et seq., because the rule updates and streamlines DFARS text, but makes no significant change to DoD policy for the acquisition of telecommunications services.

C. Paperwork Reduction Act

The Paperwork Reduction Act does not apply, because the rule does not impose any information collection requirements that require the approval of the Office of Management and Budget under 44 U.S.C. 3501, et seq.

List of Subjects in 48 CFR Part 239

Government procurement.

Michele P. Peterson,
Editor, Defense Acquisition Regulations System.

Therefore, 48 CFR part 239 is amended as follows:

PART 239—ACQUISITION OF INFORMATION TECHNOLOGY

1. The authority citation for 48 CFR Part 239 continues to read as follows:

Authority: 41 U.S.C. 421 and 48 CFR Chapter 1.

2. Section 239.7407 is added to read as follows:

239.7407 Type of contract.

When acquiring telecommunications services, the contracting officer may use a basic agreement (see FAR 16.702) in conjunction with communication service authorizations. When using this method, follow the procedures at PGI 239.7407.

239.7407-1 and 239.7407-2 [Removed]

3. Sections 239.7407-1 and 239.7407-2 are removed.

[FR Doc. 06-4466 Filed 5-11-06; 8:45 am]

BILLING CODE 5001-08-P